FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Sea Lion Holdings, Ltd. dba Sea Lion Shipping, Ltd., 614 Progress Street, Elizabeth, NJ 07201, Officer: Richard Forte, President (Qualifying Individual),

LCL Logistix (India) Pvt. dba LCL Lines, Building B, Plaza Hill 215, Rte. 18 North, East Brunswick, NJ 08816, Officers: Unnikrishnan Nair, President (Qualifying Individual), Jaya Unnikrishnan Nair, Director.

Non-Vessel Operating Common Carrier and Ocean Freight Forwarder Transportation Intermediary Applicant

World Express Shipping Transportation & Forwarding Services, Inc. dba Westainer, Lines dba West Forwarding Services, 17851 Jefferson Park Road, Ste. 101, Middleburg Hts., OH 44130, Officer: Brian C. Buckholz, President/CEO (Qualifying Individual).

Ocean Freight Forwarder—Ocean Transportation Intermediary Applicants

Penbroke Marine Services Inc., 975 E. Linden Ave., Linden, NJ 07036, Officers: Brian J. Brennan, President, Gloria Murphy, Secretary (Qualifying Individuals).

Fredonia, Inc., 531 W. Roosevelt Road, Wheaton, IL 60187, Officer: Peter Terkildsen, President (Qualifying Individual).

Dated: June 20, 2008.
Karen V. Gregory,
Assistant Secretary.

[FR Doc. E8-14390 Filed 6-24-08; 8:45 am]

BILLING CODE 6730-01-P